DEPARTMENT OF THE INTERIOR

National Park Service

[NPS-WASO-NRNHL-12070; 2200-3200-665]

National Register of Historic Places; Notification of Pending Nominations and Related Actions

Nominations for the following properties being considered for listing or related actions in the National Register were received by the National Park Service before January 5, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by February 25, 2013. Before including your address, phone number, email address, or other personal identifying information in your comment, you should be aware that your entire comment—including your personal identifying information—may be made publicly available at any time. While you can ask us in your comment to withhold your personal identifying information from public review, we cannot guarantee that we will be able to do so.

Dated: December 20, 2012.
J. Paul Loether,
Chief, National Register of Historic Places/National Historic Landmarks Program.

ARIZONA

Maricopa County

Stephens, C.P., DeSoto Six Motorcars, (Phoenix Commercial MRA), 915 N. Central Ave., Phoenix, 13000019

Tempe Double Butte Cemetery Pioneer Section, 2505 W. Broadway Rd., Tempe, 13000020

ARKANSAS

Pulaski County

North Little Rock Veterans Administration Hospital Historic District, (United States Second Generation Veterans Hospitals MPS), 2200 Fort Roots Dr., North Little Rock, 13000021

DISTRICT OF COLUMBIA

District of Columbia

McMillan Park Reservoir Historic District, Roughly bounded by Hobart Pl., NW., Michigan Ave., NW., 1st, 4th, Bryant & North Capitol Sts., NW., Washington, 13000022

GEORGIA

Chatham County

Savannah Pharmacy and Fonvielle Office Building, 914-918 Martin Luther King, Jr. Blvd., Savannah, 13000023

NEW JERSEY

Somerset County

Vermeule, Dr. John, House, 223 Rock Ave., North Plainfield, 13000024

NEW YORK

Cattaraugus County

Aiken, John J., House, 6805 Poverty Hill Rd., Ellicottville, 13000025

Kings County

Storehouse No. 2, U.S. Navy Fleet Supply Base, 850 3rd Ave., Brooklyn, 13000026

New York County

First Battery Armory, (Army National Guard Armories in New York State MPS), 56 W. 66th St., New York, 13000028

The Bowery Historic District, Chatham Square to Cooper Square, Manhattan, 13000027

Niagara County

Schoellkopf Power Station No. 3 Site, E. Bank of Niagara R., Niagara Falls, 13000029

Oswego County

State Street Methodist Episcopal Church, 357 State St., Fulton, 13000030

Otsego County

Morris Village Historic District, Main, Lake, Broad, Grove & Church, Morris, 13000031

OREGON

Marion County

Ek, Magnus and Emma, House, (Silverton, Oregon, and Its Environs MPS), 729 S. Water St., Silverton, 13000032

[FR Doc. 2013-02912 Filed 2-7-13; 8:45 am]

BILLING CODE 4312-51-P